DEPARTMENT OF COMMERCE

Bureau of Industry and Security

15 CFR Part 774

[Docket No. 020509118-2164-02]

RIN 0694-AC62

Revisions and Clarifications to the Export Administration Regulations—Chemical and Biological Weapons Controls: Australia Group; Chemical Weapons Convention; Correction

AGENCY: Bureau of Industry and Security, Commerce.

ACTION: Final rule; correction.

SUMMARY: On Friday, May 31, 2002 (67 FR 37977), the Bureau of Industry and Security (BIS) published a final rule that amended the Export Administration Regulations (EAR) to implement the understandings reached at the October 2001 plenary meeting of the Australia Group (AG). The May 31, 2002, final rule contained two errors in the List of Items Controlled for Export Control Classification Number (ECCN) 2B350 on the Commerce Control List (CCL). This document corrects those errors.

DATES: This correction is effective August 2, 2002.

FOR FURTHER INFORMATION CONTACT: James Seevaratnam, Office of Nonproliferation Controls and Treaty Compliance, Bureau of Industry and Security, Telephone: (202) 501-7900.

SUPPLEMENTARY INFORMATION: This document corrects two errors in the List of Items Controlled for Export Control Classification Number (ECCN) 2B350, which was revised in a final rule that was published by the Bureau of Industry and Security (BIS) on May 31, 2002 (67 FR 37977).

The supplementary information section of the May 31, 2002, rule stated that BIS was revising ECCN 2B350 to control exports and reexports of critical components of certain AG-controlled chemical manufacturing equipment listed in that ECCN and also indicated that these critical components included the following: casings (valve bodies) or preformed casing liners designed for valves controlled by 2B350.g. The May 31, 2002, rule inadvertently omitted these critical valve components from the introductory text of paragraph (g) in the List of Items Controlled for ECCN 2B350. This document corrects that oversight.

The May 31, 2002, rule also contained a minor typographical error in the List of Items Controlled for ECCN 2B350. The introductory text of 2B350.i used the phrase “casing (pump bodies)” to describe certain critical pump components controlled under 2B350.i. The phrase should have read: “casings (pump bodies)”. This document corrects that error.

Rulemaking Requirements

1. This rule has been determined to be not significant for purposes of Executive Order 12866.

2. Notwithstanding any other provision of law, no person is required to respond to, nor shall any person be subject to a penalty for failure to comply with, a collection of information subject to the requirements of the Paperwork Reduction Act, unless that collection of information displays a currently valid OMB Control Number. This rule contains collections of information subject to the requirements of the Paperwork Reduction Act of 1980 (44 U.S.C. 3501 et seq.). These collections have been approved by the Office of Management and Budget under Control Numbers 0694-0088 and 0694-0117.

3. This rule does not contain policies with Federalism implications as that term is defined in Executive Order 13132.

4. The provisions of the Administrative Procedure Act (5 U.S.C. 553) requiring notice of proposed rulemaking, the opportunity for public participation, and a delay in effective date, are inapplicable because this regulation involves a military and foreign affairs function of the United States (Sec. 5 U.S.C. 553(a)(1)). Further, no other law requires that a notice of proposed rulemaking and an opportunity for public comment be given for this final rule. Because a notice of proposed rulemaking and an opportunity for public comment are not required to be given for this rule under 5 U.S.C. 553 or by any other law, the analytical requirements of the Regulatory Flexibility Act (5 U.S.C. 601 et seq.) are not applicable.

Therefore, this regulation is issued in final form. Although there is no formal comment period, public comments on this regulation are welcome on a continuing basis. Comments should be submitted to Willard Fisher, Regulatory Policy Division, Bureau of Industry and Security, U.S. Department of Commerce, Room 2705, 14th Street and Pennsylvania Avenue, NW., Washington, DC 20230.

According, in the final rule, FR Doc. 02-13581, published at 67 FR 37977, make the following corrections:

PART 774—[CORRECTED]

Supplement No. 1 to Part 774—[Corrected]

1. On page 37988, first column, in ECCN 2B350, in the List of Items Controlled, paragraph g. (which includes g.1 through g.7) is corrected to read as follows:

2B350 Chemical manufacturing facilities and equipment, as follows (see List of Items Controlled).

* * * * *

List of Items Controlled

* * * * *

g. Valves with nominal sizes greater than 1.0 cm ( ⅜ in.), and casings (valve bodies) or preformed casing liners designed for such valves, in which all surfaces that come in direct contact with the chemical(s) being processed or contained are made from any of the following materials:

g.1. Nickel or alloys with more than 40% nickel by weight;

g.2. Alloys with more than 25% nickel and 20% chromium by weight;

g.3. Fluoropolymers;

g.4. Glass or glass lined (including vitrified or enameled coatings);

g.5. Tantalum or tantalum alloys;

g.6. Titanium or titanium alloys; or

g.7. Zirconium or zirconium alloys.

* * * * *

2. On page 37988, first column, in ECCN 2B350, in the List of Items Controlled, in paragraph i. introductory text, line 8, the word “casing” is corrected to read “casings”.

Dated: July 26, 2002.
James J. Jochum,
Assistant Secretary for Export Administration.

[FR Doc. 02-19515 Filed 8-1-02; 8:45 am]

BILLING CODE 3510-33-P